DEPARTMENT OF ENERGY

Federal Energy Regulatory Commission

Combined Notice of Filings #1

Take notice that the Commission received the following electric corporate filings:

Docket Numbers: EC22-110-000.

Applicants: Consumers Energy Company, New Covert Generating Company, LLC.

Description: Joint Application for Authorization Under Section 203 of the Federal Power Act of Consumers Energy Company, et al.

Filed Date: 8/18/22.

Accession Number: 20220818-5162.

Comment Date: 5 p.m. ET 9/8/22.

Take notice that the Commission received the following exempt wholesale generator filings:

Docket Numbers: EG22-207-000.

Applicants: MTSun LLC.

Description: MTSun LLC submits Notice of Self-Certification of Exempt Wholesale Generator Status.

Filed Date: 8/19/22.

Accession Number: 20220819-5021.

Comment Date: 5 p.m. ET 9/9/22.

Take notice that the Commission received the following electric rate filings:

Docket Numbers: ER21-21-004.

Applicants: Harts Mill Solar, LLC.

Description: Compliance filing: Revised Live Tariff Records in Docket ER21-000 to be effective 12/29/2020.

Filed Date: 8/19/22.

Accession Number: 20220819-5120.

Comment Date: 5 p.m. ET 9/9/22.

Docket Numbers: ER22-1610-001.

Applicants: Big River Solar, LLC.

Description: Compliance filing: Revised Rate Schedule FERC No. 1 to be effective 7/1/2022.

Filed Date: 8/19/22.

Accession Number: 20220819-5109.

Comment Date: 5 p.m. ET 9/9/22.

Docket Numbers: ER22-2672-001.

Applicants: American Municipal Power, Inc., PJM Interconnection, L.L.C.

Description: Tariff Amendment: American Municipal Power, Inc. submits tariff filing per 35.17(b): Correction to Second Revised NITSA, SA No. 4264—Docket No. ER22-2672 to be effective 8/3/2022.

Filed Date: 8/19/22.

Accession Number: 20220819-5057.

Comment Date: 5 p.m. ET 9/9/22.

Docket Numbers: ER22-2688-000.

Applicants: Alabama Power Company, Georgia Power Company, Mississippi Power Company.

Description: § 205(d) Rate Filing: Alabama Power Company submits tariff filing per 35.13(a)(2)(iii: AMEA NITSA Amendment Filing (Add Sylacauga No. 3 DP) to be effective 7/21/2022.

Filed Date: 8/19/22.

Accession Number: 20220819-5000.

Comment Date: 5 p.m. ET 9/9/22.

Docket Numbers: ER22-2689-000.

Applicants: MTSun LLC.

Description: Baseline eTariff Filing: MTSun LLC MBR Application Filing to be effective 8/20/2022.

Filed Date: 8/19/22.

Accession Number: 20220819-5053.

Comment Date: 5 p.m. ET 9/9/22.

Docket Numbers: ER22-2690-000.

Applicants: PPL Electric Utilities Corporation, PJM Interconnection, L.L.C.

Description: § 205(d) Rate Filing: PPL Electric Utilities Corporation submits tariff filing per 35.13(a)(2)(iii: PJM TOs propose OATT, Schedule 12—Appx C for State Agreement Approach Projects to be effective 10/19/2022.

Filed Date: 8/19/22.

Accession Number: 20220819-5064.

Comment Date: 5 p.m. ET 9/9/22.

Docket Numbers: ER22-2691-000.

Applicants: Midcontinent Independent System Operator, Inc.

Description: § 205(d) Rate Filing: 2022-08-19_SA 6521 MISO-Union Electric SSR Agreement for Rush Island to be effective 9/1/2022.

Filed Date: 8/19/22.

Accession Number: 20220819-5074.

Comment Date: 5 p.m. ET 9/9/22.

Docket Numbers: ER22-2692-000.

Applicants: Midcontinent Independent System Operator, Inc.

Description: § 205(d) Rate Filing: 2022-08-19_Submittal of Schedule 43K Rush Island SSR Cost Allocation to be effective 9/1/2022.

Filed Date: 8/19/22.

Accession Number: 20220819-5095.

Comment Date: 5 p.m. ET 9/9/22.

Docket Numbers: ER22-2693-000.

Applicants: PJM Interconnection, L.L.C.

Description: § 205(d) Rate Filing: Original IISA, Service Agreement No. 6573; Queue No. AF2-083 to be effective 7/20/2022.

Filed Date: 8/19/22.

Accession Number: 20220819-5098.

Comment Date: 5 p.m. ET 9/9/22.

Docket Numbers: ER22-2694-000.

Applicants: PJM Interconnection, L.L.C.

Description: Tariff Amendment: Notice of Cancellation of WMPA, SA No. 5809; Queue No. AF2-273 re: breach to be effective 5/25/2022.

Filed Date: 8/19/22.

Accession Number: 20220819-5119.

Comment Date: 5 p.m. ET 9/9/22.

Docket Numbers: ER22-2695-000.

Applicants: PJM Interconnection, L.L.C.

Description: Tariff Amendment: Notice of Cancellation of WMPA, SA No. 5546; Queue No. AE2-056 re: breach to be effective 6/27/2022.

Filed Date: 8/19/22.

Accession Number: 20220819-5127.

Comment Date: 5 p.m. ET 9/9/22.

Docket Numbers: ER22-2696-000.

Applicants: PacifiCorp.

Description: § 205(d) Rate Filing: ESM Const Agmt Klamath Decommissioning to be effective 10/19/2022.

Filed Date: 8/19/22.

Accession Number: 20220819-5129.

Comment Date: 5 p.m. ET 9/9/22.

Docket Numbers: ER22-2697-000.

Applicants: PJM Interconnection, L.L.C.

Description: Tariff Amendment: Notice of Cancellation of WMPA, SA No. 5547; Queue No. AE2-081 re: breach to be effective 6/27/2022.

Filed Date: 8/19/22.

Accession Number: 20220819-5137.

Comment Date: 5 p.m. ET 9/9/22.

Docket Numbers: ER22-834-004.

Applicants: PacifiCorp.

Description: Compliance filing: OATT Revised LGIP & SGIP Compliance Filing 8/19/2022 to be effective 4/1/2022.

Filed Date: 8/19/22.

Accession Number: 20220819-5125.

Comment Date: 5 p.m. ET 9/9/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2022.
Kimberly D. Bose,
Secretary.

[FR Doc. 2022-18333 Filed 8-24-22; 8:45 am]

BILLING CODE 6717-01-P